DEPARTMENT OF COMMERCE

National Oceanic and Atmospheric Administration

Availability of Seats for the Cordell Bank National Marine Sanctuary Advisory Council

AGENCY: National Marine Sanctuary Program (NMSP), National Ocean Service (NOS), National Oceanic and Atmospheric Administration, Department of Commerce (DOC).

ACTION: Notice and request for applications.

SUMMARY: The Cordell Bank National Marine Sanctuary (CBNMS or Sanctuary) is seeking applicants for the following five vacant seats on its Sanctuary Advisory Council (Council): Research, Education, Maritime Activities, and Community-At-Large (2 seats). Applicants are chosen based upon their particular expertise and experience in relation to the seat for which they are applying; community and professional affiliations; philosophy regarding the conversation and management of marine resources; and the length of residence in the area affected by the Sanctuary. Applicants who are chosen as members should expect to serve three-year terms, pursuant to the Council's Charter.

DATES: Applications are due by August 31, 2001.

ADDRESSES: Application kits may be obtained from Maria Brown, Cordell Bank National Marine Sanctuary, The Presidio of San Francisco, Building 991, P.O. Box 29386, San Francisco, California, 94129. Completed applications should be sent to the same address.

FOR FURTHER INFORMATION CONTACT: Maria Brown at (415) 561-6625 or mbrown@farallones.org.

SUPPLEMENTARY INFORMATION: The Council functions in an advisory capacity to the Sanctuary Manager and will be instrumental in helping to develop policies and program goals, and to identify education, outreach, research, long-term monitoring, resource protection and revenue enhancement priorities. The Council will work in concert with the Sanctuary Manager by keeping him or her informed about issue of concern throughout the Sanctuary, offering recommendations on specific issues, and aiding the Manager in achieving the goals of the Sanctuary program within the context of California's marine programs and policies.

Authority: 16 U.S.C. Section 1431 et seq.

(Federal Domestic Assistance Catalog Number 11.429 Marine Sanctuary Program)

Dated: July 24, 2001.
Jamison S. Hawkins,
Deputy Assistant Administrator for Oceans and Coastal Zone Management.

[FR Doc. 01-19304 Filed 8-1-01; 8:45 am]

BILLING CODE 3510-08-M